SECURITIES AND EXCHANGE COMMISSION

[Release No. 34-96183; File No. SR-MRX-2022-14]

Self-Regulatory Organizations; Nasdaq MRX, LLC; Notice of Withdrawal of Proposed Rule Change To Amend Options 7, Section 7 To Add Market Data Fees

October 31, 2022.

On August 25, 2022, Nasdaq MRX, LLC (“MRX”) filed with the Securities and Exchange Commission (“Commission”), pursuant to Section 19(b)(1) of the Securities Exchange Act of 1934 ¹ and Rule 19b-4 thereunder,² a proposed rule change to assess market data fees. The proposed rule change was published for comment in the Federal Register on September 14, 2022.³

¹ 15 U.S.C. 78s(b)(1).

² 17 CFR 240.19b-4.

³ See Securities Exchange Act Release No. 95708 (September 8, 2022), 87 FR 56457.

On October 14, 2022, MRX withdrew the proposed rule change (SR-MRX-2022-14).

⁴ 17 CFR 200.30-3(a)(12).

For the Commission, by the Division of Trading and Markets, pursuant to delegated authority.⁴
J. Matthew DeLesDernier,
Deputy Secretary.

[FR Doc. 2022-24031 Filed 11-3-22; 8:45 am]

BILLING CODE 8011-01-P